NATIONAL COUNCIL ON DISABILITY

Advisory Committee Meeting/Teleconference

AGENCY: National Council on Disability (NCD).

Time and Date: 4 p.m. EST, May 8, 2002.

Place: National Council on Disability, 1331 F Street, NW., Suite 850, Washington, DC.

Status: All parts of this meeting (conference call) will be open to the public. Those interested in participating in the conference call should contact the appropriate staff member listed below. Due to limited resources, only a few telephone lines will be available.

Matters To Be Considered: Roll call, announcements, reports, new business, adjournment.

CONTACT PERSON FOR MORE INFORMATION: Gerrie Drake Hawkins, Ph.D., Program Specialist, National Council on Disability, 1331 F Street NW., Suite 850, Washington, DC 20004; 202-272-2004 (voice), 202-272-2074 (TTY), 202-272-2022 (fax), ghawkins@ncd.gov (e-mail).

Youth Advisory Committee Mission: The purpose of NCD's Youth Advisory Committee is to provide input into NCD activities consistent with the values and goals of the Americans with Disabilities Act.

Dated: April 17, 2002.
Ethel D. Briggs,
Executive Director.

[FR Doc. 02-10525 Filed 4-29-02; 8:45 am]

BILLING CODE 6820-MA-M